FARM CREDIT ADMINISTRATION

Sunshine Act Meetings

AGENCY Farm Credit Administration Board, Farm Credit Administration.

ACTION: Notice, regular meeting.

SUMMARY: Notice is hereby given, pursuant to the Government in the Sunshine Act, of the forthcoming regular meeting of the Farm Credit Administration Board.

DATES: The regular meeting of the Board will be held January 14, 2021, from 9:00 a.m. until such time as the Board may conclude its business.

ADDRESSES: Because of the COVID-19 pandemic, we will conduct the board meeting virtually. If you would like to observe the open portion of the virtual meeting, see instructions in SUPPLEMENTARY INFORMATION for board meeting visitors.

FOR FURTHER INFORMATION CONTACT: Dale Aultman, Secretary to the Farm Credit Administration Board (703) 883-4009. TTY is (703) 883-4056.

SUPPLEMENTARY INFORMATION: Instructions for attending the virtual meeting: Parts of this meeting of the Board will be open to the public, and parts will be closed. If you wish to observe the open portion, at least 24 hours before the meeting, go to FCA.gov, select “Newsroom,” then “Events.” There you will find a description of the meeting and a link to “Instructions for board meeting visitors.” If you need assistance for accessibility reasons or if you have any questions, contact Dale Aultman, Secretary to the Farm Credit Administration Board, at (703) 883-4009.

The matters to be considered at the meeting are as follows:

Open Session

Approval of Minutes

• December 10, 2020

New Business

• Criminal Referral Bookletter

Report

• Auditor's Report on FCA FY 2020 Financial Statements

Closed Executive Session

• Meeting with Auditors ¹

¹ Closed session is exempt pursuant to 5 U.S.C. 552b(c)(2).

• Report on 2020 FISMA Audit ²

² Closed session is exempt pursuant to 5 U.S.C. 552b(c)(2).

Dated: January 6, 2021.
Dale Aultman,
Secretary, Farm Credit Administration Board.

[FR Doc. 2021-00241 Filed 1-7-21; 11:15 am]

BILLING CODE 6705-01-P